DEPARTMENT OF COMMERCE

International Trade Administration

U.S. Department of Commerce Trade Finance Advisory Council; Charter Renewal and Solicitations of Nominations for Membership

AGENCY: International Trade Administration, U.S. Department of Commerce.

ACTION: Notice.

SUMMARY: Pursuant to provisions of the Federal Advisory Committee Act (FACA), as amended, the Department of Commerce (the Department) announces that the charter for the U.S. Department of Commerce Trade Finance Advisory Council was renewed on August 7, 2020. This discretionary federal advisory committee advises the Secretary in identifying effective ways to help expand access to finance for U.S. exporters and their foreign buyers. The charter renewal of this advisory committee was necessary to provide the Secretary with advice from industry stakeholders on the development of effective policies and programs that support the Department's strategic goal of enhancing job creation by strengthening U.S. companies' export capabilities and reducing the costs and complexities associated with exporting. This notice also requests nominations for membership.

DATES: Nominations for membership must be received on or before 5:00 p.m. Eastern Daylight Time (EDT), Friday, November 13, 2020. After that date, the Department will continue to accept nominations under this notice through February 2022 to fill any vacancies that may arise.

ADDRESSES: All nominations should be submitted by email to TFAC@trade.gov, Attention: Yuki Fujiyama, Designated Federal Officer and Executive Secretary, U.S. Department of Commerce Trade Finance Advisory Council.

FOR FURTHER INFORMATION CONTACT: Yuki Fujiyama, Trade Finance Specialist, Office of Finance and Insurance Industries, Industry and Analysis, International Trade Administration, U.S. Department of Commerce at (202) 482-3468; email: Yuki.Fujiyama@trade.gov.

SUPPLEMENTARY INFORMATION:

I. Background and Authority

Pursuant to provisions of the FACA, as amended, 5 U.S.C. App., the Department announces that the charter for the U.S. Department of Commerce Trade Finance Advisory Council (TFAC or the “Council”) was renewed on August 7, 2020. The TFAC Secretariat, housed in the Office of Finance and Insurance Industries at the Department's International Trade Administration, is accepting nominations for membership on the Council. The Secretary of Commerce, pursuant to the duties imposed by 15 U.S.C. 1512, first established the TFAC on August 11, 2016, in accordance with the FACA, as amended, 5 U.S.C. App. The current TFAC charter was renewed for a two-year term and will expire on August 7, 2022.

The TFAC functions solely as an advisory committee and its main objectives are to advise the Secretary in identifying effective ways to help (1) expand access to finance for U.S. exporters, including small- and medium-sized enterprises (SMEs), and their foreign buyers, and (2) remove obstacles to such finance, capital and related resources. The description of duties is as follows:

A. Provide a forum to facilitate discussion among a diverse group of stakeholders such as banks, non-bank financial institutions, other trade finance related organizations, and exporters, so that the TFAC can better perform its advisory work for the Secretary by obtaining a better understanding of current challenges facing U.S. exporters and their foreign buyers in accessing financing and capital;

B. Develop actionable recommendations for the Secretary to help achieve the objectives stated in this charter;

C. Address access to private sector trade finance by identifying proactive and effective ways for the Department to support and collaborate with private sector trade finance providers, which facilitate 98 percent of U.S. export transactions, to contribute to the growth of U.S. exports;

D. Recommend effective ways for the Department to expand use of U.S. government export finance programs by increasing awareness of programs offered by the U.S. Export-Import Bank (EXIM Bank), the Small Business Administration (SBA) and the U.S. Department of Agriculture's Foreign Agricultural Service (USDA/FAS), and promoting their use among U.S. exporters, especially SMEs, which are unable to obtain financing in the private-sector due to credit, commercial and/or country risks;

E. Draw upon the experience of its members to identify how new financial technologies and other innovative solutions can expand access to trade finance for U.S. exporters; and

F. Report to the Secretary on its activities and recommendations. In creating its reports, the TFAC shall: (1) Evaluate current credit conditions and specific financing challenges faced by U.S. exporters, including SMEs, and their foreign buyers; (2) identify emerging financing sources that could address these gaps; (3) explore actions U.S. exporters can take to manage various risks more effectively, thus minimizing risk of non-payment or delayed payment to help enhance their ability to obtain financing; and (4) address any other issues requested by the Secretary, the Under Secretary for International Trade, or the Assistant Secretary for Industry and Analysis

II. Structure, Membership, and Operation

The TFAC under the new charter will consist of up to twenty (20) members with a balanced and broad range of interests, including representatives from the trade finance industry and the U.S. exporting community, as well as experts from academia and public policy organizations.

The Secretary will seek to appoint to the TFAC individuals representing the following areas:

• U.S. companies that are exporters of goods and services;

• U.S. commercial banks that provide trade finance products, cross-border payment services, or foreign exchange solutions;

• Non-bank U.S. financial institutions that provide trade finance products, cross-border payment services, or foreign exchange solutions;

• Associations that represent: (a) U.S. exporters; and (b) U.S. commercial banks or non-bank financial institutions or other professionals that facilitate international trade transactions;

• U.S. companies or entities whose business includes trade-finance-related activities or services;

• U.S. scholars, academic institutions, or public policy organizations with expertise in global business, trade finance, and international banking related subjects; and

• Economic development organizations and other U.S. regional, state and local governmental and non-governmental organizations whose missions or activities include the analysis, provision, or facilitation of trade finance products/services. Members will represent companies and organizations from a broad range of products and services, company sizes, and geographic locations. In accordance with applicable Department guidelines and in a manner that ensures that the TFAC is balanced in terms of points of view, Members will be selected based on their ability to carry out the objectives of the TFAC. Members, with the exception of those that serve as experts from academia and public policy organizations, serve in a representative capacity and representing their own views and interests and those of their particular sector, not as special government employees. The members that serve as experts (rather than as representatives) from academia and public policy organizations are Special Government Employees (SGEs), pursuant to 18 U.S.C. 202, are required to comply with certain ethics laws and rules, including filing a Confidential Financial Disclosure form. Additionally, a member serving as an expert must not be a Federally Registered Lobbyist. Prospective nominees should designate the capacity in which they are applying to serve and identify either their area of expertise or the U.S. industry sector they wish to represent.

Each member shall be appointed for a term of two years and will serve at the pleasure of the Secretary. The Secretary may at his/her discretion reappoint any member to an additional term or terms, provided that the member proves to work effectively on the TFAC, and his/her knowledge and advice is still needed.

In addition, designees from EXIM Bank, SBA, and the Trade Promotion Coordinating Committee Secretariat will serve as ex officio non-voting members.

III. Compensation

Members will neither be paid for their engagement in the performance of their duties as members of the Council nor will receive per diem and travel expenses.

IV. Nomination

The Department will consider nominations of all qualified individuals to ensure that the TFAC includes representatives of the viewpoint areas of subject matter expertise noted above (see Section II. ”Structure, Membership and Operation”). Individuals may nominate themselves or a company, institution, trade association, or organization may nominate a qualified representative for membership on the TFAC.

Applications for immediate consideration must be received by 5:00 p.m. EDT, Friday, November 13, 2020.

All applicants must submit the following:

1. Name and title of the individual requesting consideration.

2. The applicant's personal resume and short biography (less than 300 words).

3. A brief statement describing how the applicant will contribute to the work of the TFAC based on his/her unique experience and perspective (not to exceed 100 words).

4. All relevant contact information, including mailing address, fax, email, phone number, and support staff information where relevant.

5. An affirmative statement that the applicant meets all eligibility criteria, including an affirmative statement that the applicant is not required to register as a foreign agent under the Foreign Agents Registration Act of 1938, as amended.

6. For applicants to serve in a representative capacity, also submit:

a. A sponsor letter on the sponsoring entity's letterhead containing a brief statement of why the applicant should be considered for membership on the TFAC. This sponsor letter should also address the applicant's experience and leadership related to trade finance;

b. A brief description of the company, institution, trade association, or organization to be represented and its business activities and export market(s) served, if applicable;

c. Information regarding the ownership and control of the sponsoring entity, including the stock holdings as appropriate; and

d. The sponsoring entity's size (number of employees and annual sales), place of incorporation, product or service line, major markets in which the entity operates, and the entity's export or import experience.

7. For applicants to serve as experts (i.e., not in a representative capacity), also submit:

a. A statement that the applicant is not a Federally registered lobbyist and that the applicant understands that, if appointed, the applicant will not be allowed to continue to serve as a Committee member if the applicant becomes a Federally registered lobbyist.

Michael Fuchs,
Acting Director, Office of Finance and Insurance Industries, Industry & Analysis, International Trade Administration, U.S. Department of Commerce.

[FR Doc. 2020-20302 Filed 9-14-20; 8:45 am]

BILLING CODE 3510-DR-P